DEPARTMENT OF COMMERCE

National Oceanic and Atmospheric Administration

[I.D.101105E]

South Atlantic Fishery Management Council; Public Hearings

AGENCY: National Marine Fisheries Service (NMFS), National Oceanic and Atmospheric Administration, Commerce.

ACTION: Notice of public hearings.

SUMMARY: The South Atlantic Fishery Management Council (Council) will convene a series of 10 public hearings regarding Amendment 13C to the Snapper Grouper Fishery Management Plan. Amendment 13C is intended to eliminate or phase out overfishing of snowy grouper, golden tilefish, vermilion snapper, and black sea bass; and increase red porgy harvest consistent with the red porgy rebuilding plan. The underlying need of the amendment is to end overfishing while achieving optimum yield from each fishery through the implementation of new or modification of existing regulations. To address overfishing, the Council is proposing regulations that can be implemented in early 2006, with provisions to allow for a year-round fishery to occur. More specifically, the Council is considering, for the commercial sector, new or adjusted: catch quotas, size limits, trip limits, seasonal closures, fishing year start dates, and gear restrictions. Management measures for the recreational sector would include new or adjusted: catch allocations, bag limits, size limits, and seasonal closures.

DATES: The public hearings will be held during November - December 2005. Written comments must be received in the Council office by close of business on November 28, 2005. See SUPPLEMENTARY INFORMATION for the specific dates and times of the public hearings.

ADDRESSES: Written comments should be sent to Bob Mahood, Executive Director, South Atlantic Fishery Management Council, One Southpark Circle, Suite 306, Charleston, SC 29407-4699, or via email to snappergroupercomments@safmc.net. Copies of the Public Hearing Document are available from Kim Iverson, South Atlantic Fishery Management Council, One Southpark Circle, Suite 306, Charleston, SC 29407-4699; telephone: (843) 571-4366 or toll free at (866) SAFMC-10.

FOR FURTHER INFORMATION CONTACT: Kim Iverson, South Atlantic Fishery Management Council, One Southpark Circle, Suite 306, Charleston, SC 29407-4699; telephone: (843) 571-4366; fax: (843) 769-4520; email address: kim.iverson@safmc.net.

SUPPLEMENTARY INFORMATION: Public hearing dates and locations. Hearings are scheduled to begin at 6 pm.

• November 7, 2005, Sombrero Resort & Lighthouse Marina, 19 Sombrero Boulevard, Marathon, FL 33050, Phone: (305) 743-2250;

• November 8, 2005, Irelands Inn Beach Resort, 2220 N. Atlantic Blvd., Ft. Lauderdale, FL 33305, Phone: (954) 565-6661;

• November 9, 2005, Radisson Resort at the Port, 8701 Astronaut Boulevard, Cape Canaveral, FL 32920, Phone: (321) 784-0000;

• November 9, 2005, Ramada Plaza Resort, 1701 S. Virginia Dare Trail, Kill Devil Hills, NC 27948, Phone: (252) 441-2151;

• November 10, 2005, Holiday Inn Sunspree Resort, 1617 N. 1st Street, Jacksonville Beach, FL 32250, Phone: (904) 249-9071;

• November 10, 2005, Leon Mann, Jr. Enrichment Center, 3820 Galantis Drive, Morehead City, NC 28557, Phone: (252) 247-2626;

• November 14, 2005, Holiday Inn West, 101 Outlet Boulevard, Myrtle Beach, SC 29579, Phone: (843) 236-1000;

• November 16, 2005, Town and Country Inn, 2008 Savannah Highway, Charleston, SC 29407, Phone: (843) 571-1000;

• December 5, 2005, Courtyard Marriott, 100 Charlotte Avenue, Carolina Beach, NC 28428, Phone: (910) 458-2030;

Special Accommodations

These meetings are physically accessible to people with disabilities. Requests for sign language interpretation or other auxiliary aids should be directed to the Council office (see ADDRESSES) by November 3, 2005.

Dated: October 12, 2005.
Emily Menashes,
Acting Director, Office of Sustainable Fisheries, National Marine Fisheries Service.

[FR Doc. E5-5707 Filed 10-14-05; 8:45 am]

BILLING CODE 3510-22-S